ADVISORY COUNCIL ON HISTORIC PRESERVATION

Notice of Meeting

AGENCY: Advisory Council on Historic Preservation.

ACTION: Notice of meeting.

SUMMARY: Notice is hereby given that the Advisory Council on Historic Preservation (ACHP) will meet on Friday, February 23, 2007. The meeting will be held in the Rachel Carson Room of the Environmental Protection Agency, 1200 Pennsylvania Avenue, NW., Washington, DC at 9 a.m. The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native American; and eight non-Federal members appointed by the President.

The agenda for the meeting includes the following:

Call to Order—9 a.m.

I. Chairman's Welcome.

II. Swearing in Ceremony for Mayor Alan Autry.

III. ACHP Award for Federal Preserve America Achievement and Chairman's Award Presentation.

IV. Adoption of ACHP Recommendations from the Preserve America Summit.

V. Archaeology Task Force.

A. Presentation of Human Remains Policy Statement for Council Approval.

B. Report on Archaeology Guidance and Heritage Tourism Initiatives.

VI. Report of the Native American Advisory Group.

VII. Report of the Preservation Initiatives Committee.

A. Legislative Update.

B. Update on Preserve America Communities and Grants.

C. Implementation of NHPA Amendments.

VIII. Report of the Federal Agency Programs Committee.

A. Guidance for Program Comments.

B. Update on the Implementation of the Affordable Housing Policy Statement.

C. Report on Proposed Redevelopment of St. Elizabeths West Campus.

D. Consideration of Standard Treatments.

IX. Report of the Communications, Education, and Outreach Committee.

A. 2007 Preserve America Presidential Award Update.

C. Preserve America Presidential Award Program Improvements.

X. Chairman's Report.

A. Report on Meeting of Senior Policy Officials.

B. ACHP Reauthorization Legislation.

C. ACHP Budget—FY 2007 and FY 2008.

XI. Executive Director's Report.

XII. New Business.

XIII. Adjourn.

Note: The meetings of the ACHP are open to the public. If you need special accommodations due to a disability, please contact the Advisory Council on Historic Preservation, 1100 Pennsylvania Avenue, NW., Room 803, Washington, DC 202-606-8503, at least seven (7) days prior to the meeting.

FOR FURTHER INFORMATION CONTACT:

Additional information concerning the meeting is available from the Executive Director, Advisory Council on Historic Preservation, 1100 Pennsylvania Avenue, NW., #803, Washington, DC 20004.

Dated: February 9, 2007.
Ralston Cox,
Acting Executive Director.

[FR Doc. 07-683 Filed 2-13-07; 8:45 am]

BILLING CODE 4310-K6-M